DEPARTMENT OF ENERGY

Federal Energy Regulatory Commission

[Docket No. EL05-110-000, et al.]

Alliant Energy Generation, Inc., et al.; Electric Rate and Corporate Filings

May 12, 2005.

The following filings have been made with the Commission. The filings are listed in ascending order within each docket classification.

1. Alliant Energy Generation, Inc.; Sheboygan Power, LLC

[Docket No. EL05-110-000]

Take notice that on May 6, 2005, Alliant Energy Corporate Services, Inc., on behalf of Alliant Energy Generation, Inc. (AEG) and Sheboygan Power, LLC (SPLLC), submitted a petition to the Federal Energy Regulatory Commission requesting issuance of a declaratory order determining that AEG and SPLLC will not be “public utilities,” as the term “public utility” is defined in section 201(e) of the Federal Power Act, 16 U.S.C. 824(e), by virtue of AEG's ownership of SPLLC and SPLLC's passive ownership of limited FERC-jurisdictional generator interconnection facilities that will be under the exclusive control of another utility.

Comment Date: 5 p.m. Eastern Time on May 23, 2005.

2. LG&E Roanoke Valley L.P.; Westmoreland-Roanoke Valley, L.P.; Westmoreland-LG&E Partners

[Docket No. ER93-734-002]

Take notice that on May 6, 2005, LG&E Roanoke Valley L.P., Westmoreland-Roanoke Valley, L.P., and Westmoreland-LG&E Partners submitted a compliance filing pursuant to the Commission's Order issued April 6, 2005 in Docket No. ER93-734-001.

Comment Date: 5 p.m. Eastern Time on May 27, 2005.

3. Baconton Power LLC

[Docket No. ER00-2398-007]

Take notice that on May 6, 2005, Baconton Power LLC submitted a compliance filing pursuant to the Commission's letter order issued April 6, 2005 in Docket No. ER00-2398-006.

Comment Date: 5 p.m. Eastern Time on May 27, 2005.

4. EME Homer City Generation, L.P.

[Docket No. ER99-666-004]

Take notice that on May 6, 2005, EME Homer City Generation, L.P. (EME Homer City) submitted a compliance filing pursuant to the Commission's order issued April 14, 2005 in Midwest Generation, LLC, 111 FERC ¶ 61,034 (2005).

EME Homer City states that copies of this filing were served upon all persons on the service list.

Comment Date: 5 p.m. Eastern Time on May 27, 2005.

5. CP Power Sales Twelve, L.L.C.

[Docket No. ER99-893-009]

Take notice that on May 6, 2005, CP Power Sales Twelve, L.L.C. (CPS Twelve) submitted a compliance filing pursuant to the Commission's order issued April 14, 2005 in Midwest Generation, LLC, 111 FERC ¶ 61,034 (2005).

CPS Twelve states that copies of this filing were served upon all persons on the service list.

Comment Date: 5 p.m. Eastern Time on May 27, 2005.

6. Midwest Generation, LLC

[Docket No. ER99-3693-003]

Take notice that on May 6, 2005, Midwest Generation, LLC (MWGen) submitted a compliance filing pursuant to the Commission's order issued April 14, 2005 in Midwest Generation, LLC, 111 FERC ¶ 61,034 (2005).

MWGen states that copies of this filing were served upon all persons on the service list.

Comment Date: 5 p.m. Eastern Time on May 27, 2005.

7. CP Power Sales Nineteen, L.L.C.

[Docket No. ER99-4228-007]

Take notice that on May 6, 2005, CP Power Sales Nineteen, L.L.C. (CPS Nineteen) submitted a compliance filing pursuant to the Commission's order issued April 14, 2005 in Midwest Generation, LLC, 111 FERC ¶ 61,034 (2005).

CPS Nineteen states that copies of this filing were served upon all persons on the service list.

Comment Date: 5 p.m. Eastern Time on May 27, 2005.

8. CP Power Sales Seventeen, L.L.C.

[Docket No. ER99-4229-007]

Take notice that on May 6, 2005, CP Power Sales Seventeen, L.L.C. (CPS Seventeen) submitted a compliance filing pursuant to the Commission's order issued April 14, 2005 in Midwest Generation, LLC, 111 FERC ¶ 61,034 (2005).

CPS Seventeen states that copies of this filing were served upon all persons on the service list.

Comment Date: 5 p.m. Eastern Time on May 27, 2005.

9. CP Power Sales Twenty, L.L.C.

[Docket No. ER99-4231-006]

Take notice that on May 6, 2005, CP Power Sales Twenty, L.L.C. (CPS Twenty) submitted a compliance filing pursuant to the Commission's order issued April 14, 2005 in Midwest Generation, LLC, 111 FERC ¶ 61,034 (2005).

CPS Twenty states that copies of this filing were served upon all persons on the service list.

Comment Date: 5 p.m. Eastern Time on May 27, 2005.

10. American Ref-Fuel Company of Niagara, L.P.

[Docket No. ER01-1302-005]

Take notice that, on May 5, 2005, American Ref-Fuel Company of Niagara, L.P. (ARC-Niagara) submitted a compliance filing pursuant to the Commission's letter order issued April 14, 2005 in Docket No. ER01-1302-004.

ARC-Niagara states that copies of the filing were served upon the parties on the official service list in Docket No. ER01-1302-000.

Comment Date: 5 p.m. Eastern Time on May 26, 2005.

11. Backbone Mountain Windpower, LLC; Badger Windpower, LLC; Bayswater Peaking Facility, LLC; Blythe Energy, LLC; Calhoun Power Company I, LLC; Doswell Limited Partnership; ESI Vansycle Partners, L.P.; Florida Power & Light Co.; FPL Energy Cape, LLC; FPL Energy Hancock County Wind, LLC; FPL Energy Maine Hydro LLC; FPL Energy Marcus Hook, L.P.; FPL Energy Mason, LLC; FPL Energy MH 50, L.P.; FPL Energy New Mexico Wind, LLC; FPL Energy Pennsylvania Wind, LLC; FPL Energy Power Marketing, Inc.; FPL Energy Seabrook, LLC; FPL Energy Vansycle, L.L.C.; FPL Energy Wyman, LLC; FPL Energy Wyman IV, LLC; Gray County Wind Energy, LLC; Hawkeye Power Partners, LLC; High Winds, LLC; Jamaica Bay Peaking Facility, LLC; Lake Benton Power Partners II, LLC; Mill Run Windpower, LLC; Somerset Windpower, LLC; West Texas Wind Energy Partners, LP

[Docket Nos. ER02-2559-002, ER01-1071-003, ER02-669-004, ER02-2018-004, ER01-2074-003, ER90-80-002, ER98-2494-006, ER97-3359-006, ER00-3068-003, ER03-34-002, ER98-3511-007, ER02-1903-003, ER98-3562-007, ER99-2917-004, ER03-179-004, ER02-2166-003, ER98-3566-010, ER02-1838-003, ER01-838-003, ER98-3563-007, ER98-3564-007, ER01-1972-003, ER98-2076-006, ER03-155-003, ER03-623-003, ER98-4222-002, ER01-1710-003, ER01-2139-004, ER98-1965-003]

Take notice that on May 6, 2005, Backbone Mountain Windpower, LLC, Badger Windpower, LLC, Bayswater Peaking Facility, LLC, Blythe Energy, LLC, Calhoun Power Company I, LLC, Doswell Limited Partnership, ESI Vansycle Partners, L.P., Florida Power & Light Company, FPL Energy Cape, LLC, FPL Energy Hancock County Wind, LLC, FPL Energy Maine Hydro LLC, FPL Energy Marcus Hook, L.P., FPL Energy Mason, LLC, FPL Energy MH 50, L.P., FPL Energy New Mexico Wind, LLC, FPL Energy Pennsylvania Wind, LLC, FPL Energy Power Marketing, Inc., FPL Energy Rhode Island Energy, L.P., FPL Energy Seabrook, LLC, FPL Energy Vansycle, L.L.C., FPL Energy Wyman, LLC, FPL Energy Wyman IV, LLC, Gray County Wind Energy, LLC, Hawkeye Power Partners, LLC, High Winds, LLC, Jamaica Bay Peaking Facility, LLC, Lake Benton Power Partners II, LLC, Mill Run Windpower, LLC, Somerset Windpower, LLC, and West Texas Wind Energy Partners, LP (collectively, Applicants), submitted their response to the Commission's deficiency letter issued April 12, 2005.

Applicants state that copies of the filing were served on parties on the official service list in the above-captioned proceedings, the Florida Public Service Commission and the New Hampshire Public Utilities Commission.

Comment Date: 5 p.m. Eastern Time on May 18, 2005.

12. Midwest Generation Energy Services, LLC

[Docket No. ER03-30-002]

Take notice that on May 6, 2005, Midwest Generation Energy Services, LLC (MGES) submitted a compliance filing pursuant to the Commission's order issued April 14, 2005 in Midwest Generation, LLC, 111 FERC ¶ 61,034 (2005).

MGES states that copies of this filing were served upon all persons on the service list.

Comment Date: 5 p.m. Eastern Time on May 27, 2005.

13. Midwest Independent Transmission System Operator, Inc.; Midwest Independent Transmission System Operator, Inc.; Midwest Independent Transmission System Operator, Inc.; Ameren Services Co., et al.

[Docket Nos. ER05-6-022, EL04-135-024, EL02-111-042, EL03-212-038]

Take notice that on May 4, 2005 as amended on May 5, 2005, the Midwest Independent Transmission System Operator, Inc. (Midwest ISO) and the Midwest ISO Transmission Owners jointly submitted for filing a compliance filing revising the Midwest ISO Open Access Transmission and Energy Markets Tariff pursuant to the Commission's November 18, 2004 Order in Docket Nos. ER05-6, EL04-135, EL02-111, and EL03-212, Midwest Indep. Transmission Sys. Operator, Inc., 109 FERC ¶ 61,168 (2004).

Midwest ISO states that copies of the filing were served on parties on the official service list in the above-captioned proceedings.

Comment Date: 5 p.m. Eastern Time on May 26, 2005.

14. TransCanada Power (Castleton) LLC

[Docket No. ER05-723-001]

Take notice that on May 9, 2005, TransCanada Power (Castleton) LLC (TCP Castleton) filed with the Commission an amendment to its March 23, 2005 application requesting that the Commission accept for filing a market-based tariff for TCP Castleton, and otherwise grant TCP Castleton the authority to sell energy and capacity and ancillary services in wholesale transactions at negotiated, market-based rates pursuant to part 35 of the Commission's regulations.

Comment Date: 5 p.m. Eastern Time on May 19, 2005.

15. Northeast Utilities Service Company

[Docket No. ER05-827-001]

Take notice that on May 4, 2005, Northeast Utilities Service Company (NUSCO), on behalf of its operating company affiliates, The Connecticut Light and Power Company (CL&P), Western Massachusetts Electric Company (WMECO), Holyoke Water Power Company (HWP), Holyoke Power and Electric Company (HP&E), and Public Service Company of New Hampshire (PSNH), submitted an amendment to its April 15, 2005 filing in Docket No. ER05-827-000 to include a Notice of Cancellation of Holyoke Power and Electric Company FERC Electric Rate Schedule No. 13 reflecting the termination of the Memorandum of Understanding—Pooling of Generation and Transmission (NUG&T) between CL&P, WMECO, HWP, and HP&E. NUSCO requests an effective date of May 1, 2001.

NUSCO states that copies of the filing were served upon the NUSCO's jurisdictional customers, Connecticut Department of Public Utility Control, New Hampshire Public Utilities Commission, and Massachusetts Department of Telecommunications and Energy.

Comment Date: 5 p.m. Eastern Time on May 25, 2005.

16. Western Electricity Coordinating Council

[Docket No. ER05-907-001]

Take notice that on May 4, 2005, the Western Electricity Coordinating Council (WECC) filed supplemental information to its April 29, 2005 filing of the Fifth Amendment to the Reliability Criteria Agreement under the WECC's Reliability Management System. The WECC requests an effective date of May 1, 2005.

Comment Date: 5 p.m. Eastern Time on May 25, 2005.

17. Southern Company Services, Inc.

[Docket No. ER05-938-000]

Take notice that on May 5, 2005 Southern Company Services, Inc., acting as agent for Alabama Power Company, Georgia Power Company, Gulf Power Company, Mississippi Power Company and Savannah Electric and Power Company (collectively Southern Companies), submitted for filing Revision No. 4 to the Agreement for Network Integration Transmission Service for Alabama Electric Cooperative, Inc. under the Open Access Transmission Tariff of Southern Companies to add/amend several delivery points and network power purchases.

Comment Date: 5 p.m. Eastern Time on May 26, 2005.

18. Vesta Trading LP

[Docket No. ER05-939-000]

Take notice that on May 5, 2005, Vesta Trading LP (Vesta) petitioned the Commission for acceptance of Vesta's FERC Electric Tariff Original Volume No. 1; the granting of certain blanket approvals, including the authority to sell electricity at market-based rates; and the waiver of certain Commission regulations. Vesta states that it intends to engage in wholesale electric power and energy purchases and sales as a marketer. Vesta further states that it is not in the business of generating or transmitting electric power.

Comment Date: 5 p.m. Eastern Time on May 26, 2005.

19. Vesta Capital Partners LP

[Docket No. ER05-940-000]

Take notice that on May 5, 2005, Vesta Capital Partners LP (Vesta Capital) petitioned the Commission for acceptance of Vesta Capital's FERC Electric Tariff Original Volume No. 1; the granting of certain blanket approvals, including the authority to sell electricity at market-based rates; and the waiver of certain Commission regulations. Vesta Capital states that it intends to engage in wholesale electric power and energy purchases and sales as a marketer. Vesta Capital further states that it is not in the business of generating or transmitting electric power.

Comment Date: 5 p.m. Eastern Time on May 26, 2005.

20. New York Independent System Operator, Inc.

[Docket No. ER05-941-000]

Take notice that on May 5, 2005, the New York Independent System Operator, Inc. (NYISO) filed proposed revisions to the NYISO's Open Access Transmission Tariff (OATT) and Market Administration and Control Area Services Tariff (Services Tariff). NYISO states that the proposed filing would amend the NYISO's creditworthiness requirements to allow an additional form of collateral and reduce the amount of collateral required in the Virtual Bidding Market. Specifically, the NYISO indicates that it proposes to (1) allow netting of amounts receivable as an acceptable form of collateral in the Virtual Bidding Market and (2) reduce the collateral requirement necessary to participate in the Virtual Bidding market from seven days to four days. The NYISO requests an effective date of July 5, 2005.

The NYISO states that it has served a copy of this filing to all parties that have executed Service Agreements under the NYISO's OATT or Services Tariff. NYISO also states that the copies of this filing are being served on all of the parties in the Docket Nos. ER01-3009-000, ER01-3153-000 & EL00-90-000.

Comment Date: 5 p.m. Eastern Time on May 26, 2005.

21. Pacific Gas and Electric Company

[Docket No. ER05-942-000]

Take notice that on May 6, 2005, Pacific Gas and Electric Company (PG&E) tendered for filing a Generator Special Facilities Agreement and a Generator Interconnection Agreement between PG&E and Soledad Energy LLC (Soledad).

PG&E and GSFA state that electronic copies of this filing have been served upon Soledad, the California Independent System Operator Corporation and the California Public Utilities Commission.

Comment Date: 5 p.m. Eastern Time on May 27, 2005.

22. New England Power Company; USGen New England, Inc.

[Docket No. ER05-950-000]

Take notice that on May 6, 2005, New England Power Company (NEP) and USGen New England, Inc. (USGenNE) (collectively, Applicants), submitted Notices of Cancellation of the Amended and Restated Continuing Site/Interconnection Agreement by and between NEP and USGenNE filed with the Commission and accepted for filing in Docket No. ER98-6-000 and EC98-1-000 on February 25, 1998 and amended and filed with the Commission on December 16, 2004 in Docket No. ER05-347-000 (the CSIA). Applicants state that the CSIA is designated as NEP's First Revised Rate Schedule FERC No. 488 and as USGenNE's Rate Schedule FERC No. 1. Applicants further state that the CSIA terminated, consistent with its terms, as of April 1, 2005. The Applicants propose an effective date of April 1, 2005 for the Notices of Cancellation.

Applicants state that the notices of the proposed cancellation have been served on NEP and USGenNE.

Comment Date: 5 p.m. Eastern Time on May 27, 2005.

23. Northern Maine Independent System Administrator, Inc.

[Docket No. ER05-951-000]

Take notice that on May 6, 2005, Northern Maine Independent System Administrator, Inc. (NMISA) submitted Service Agreement No. 12 between NMISA and UPC Wind Power, LLC (UPC) under NMISA's FERC Electric Tariff Original Volume No. 1. NMISA requests an effective date of April 27, 2005.

NMISA states that a copy of the filing was served upon UPC.

Comment Date: 5 p.m. Eastern Time on May 27, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Linda Mitry,
Deputy Secretary.

[FR Doc. E5-2521 Filed 5-18-05; 8:45 am]

BILLING CODE 6717-01-P